NUCLEAR REGULATORY COMMISSION

Notice of Issuance of Regulatory Guide

AGENCY: Nuclear Regulatory Commission.

ACTION: Notice of Issuance and Availability of Regulatory Guide 10.5, Revision 2.

FOR FURTHER INFORMATION CONTACT: Mark Orr, Regulatory Guide Development Branch, Division of Engineering, Office of Nuclear Regulatory Research, U.S. Nuclear Regulatory Commission, Washington, DC 20555-0001, telephone (301) 415-6373 or e-mail to Mark.Orr@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 2 of Regulatory Guide 10.5, “Applications for a Type A License of Broad Scope,” was issued with a temporary identification as Draft Regulatory Guide DG-0015. This guide directs the reader to the type of information needed by the NRC staff to evaluate an application for a Type A license of broad scope for byproduct material. Title 10, Part 33, “Specific Domestic Licenses of Broad Scope for Byproduct Material,” of the Code of Federal Regulations (10 CFR Part 33) regulates this type of license.

This regulatory guide endorses the methods and procedures contained in the current revision of NUREG-1556, Volume 11, “Consolidated Guidance about Materials Licenses: Program-Specific Guidance about Licenses of Broad Scope,” as a process that the NRC staff finds acceptable for meeting the regulatory requirements of 10 CFR Part 33.

Volume 11 of NUREG-1556 is not intended to be used alone. Because broad-scope licensees may be involved in many different program areas (e.g., medicine, research and development, manufacturing and distribution), Volume 11 frequently refers the user to other more program-specific guidance documents in the NUREG-1556 series. A single document containing all of the guidance that might be required by a broad-scope licensee or an applicant for a broad-scope license would be unwieldy and may become obsolete as guidance in the individual program areas is revised. Volume 11 of NUREG-1556 takes a more risk-informed, performance-based approach to the information needed to support an application for a specific license of broad scope. Applicants should consider the entire NUREG-1556 series when preparing broad-scope license applications. NRC staff will use applicable portions of the complete NUREG-1556 series when reviewing applications.

II. Further Information

In January 2008, DG-0015 was published with a public comment period of 60 days from the issuance of the guide. No comments were received and the public comment period closed on April 18, 2008. Electronic copies of Regulatory Guide 10.5, Revision 2 are available through the NRC's public Web site under “Regulatory Guides” at http://www.nrc.gov/reading-rm/doc-collections/.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr@nrc.gov.

Regulatory guides are not copyrighted, and NRC approval is not required to reproduce them.

Dated at Rockville, Maryland, this 3rd day of July, 2008.
For the Nuclear Regulatory Commission.
Stephen C. O'Connor,
Acting Chief, Regulatory Guide Development Branch, Division of Engineering, Office of Nuclear Regulatory Research.

[FR Doc. E8-15788 Filed 7-10-08; 8:45 am]

BILLING CODE 7590-01-P